FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 015154N.

Name: Attila Cargo Express, Inc.

Address: 112 Starlite Street, So. San Francisco, CA 94080.

Date Revoked: November 6, 2005.

Reason: Failed to maintain a valid bond.

License Number: 002238F.

Name: CSI Cargo System Air and Sea Inc.

Address: 150-40 183rd Street, Suite 106, Jamaica, NY 11413.

Date Revoked: November 23, 2005.

Reason: Failed to maintain a valid bond.

License Number: 019165N.

Name: Cody Cargo Corp. dba Armada International Logistics.

Address: 632 Centre Drive, Lincolnton, NC 28092.

Date Revoked: November 30, 2005.

Reason: Surrendered license voluntarily.

License Number: 000571F.

Name: Forwarding Services, Inc.

Address: 811 Washington Road, Parlin, NJ 08859.

Date Revoked: November 6, 2005.

Reason: Failed to maintain a valid bond.

License Number: 004128N.

Name: International Logistics, Inc.

Address: 9902 S. 148th Street, Omaha, NE 68138.

Date Revoked: November 22, 2005.

Reason: Surrendered license voluntarily.

License Number: 003763F.

Name: Mayda Beatriz Sabloon dba Ameripack Freight Systems.

Address: 7301 NW 41st Street, Miami, FL 33166.

Date Revoked: Decmber 4, 2005.

Reason: Failed to maintain a valid bond.

License Number: 019184N.

Name: Seaboard Solutions, Inc.

Address: 8001 NW 79th Street, Miami, FL 33166.

Date Revoked: November 18, 2005.

Reason: Surrendered license voluntarily.

License Number: 016532F.

Name: Seven Seas Shipping, Inc.

Address: 767 Citrus Cove Drive, Winter Garden, FL 34787.

Date Revoked: November 30, 2005.

Reason: Failed to maintain a valid bond.

License Number: 017081F.

Name: Speedex International, Inc.

Address: 2665 E. Del Amo Blvd., Rancho Dominguez, CA 90221.

Date Revoked: November 30, 2005.

Reason: Failed to maintain a valid bond.

Sandra L. Kusumoto,
Director, Bureau of Certification and Licensing.

[FR Doc. E5-8008 Filed 12-28-05; 8:45 am]

BILLING CODE 6730-01-P